DEPARTMENT OF STATE

[Public Notice: 9737]

Notice of Receipt of Borrego Crossing Pipeline, LLC's Application for a Presidential Permit To Construct, Connect, Operate, and Maintain Pipeline Facilities on the Border of the United States and Mexico

AGENCY: Department of State.

ACTION: Notice.

SUMMARY: Notice is hereby given that the Department of State (DOS) has received an application from Borrego Crossing Pipeline, LLC (“Borrego”) for a Presidential Permit authorizing the construction, connection, operation, and maintenance of pipeline facilities for the export of refined petroleum products. If the application is approved, the proposed pipeline facilities will transport refined products, including gasoline, ultra-low-sulfur diesel (“ULSD”), and jet fuel across the U.S.-Mexican border under the Rio Grande River. Minimum pipeline depth under the river bed will be 45 feet, and minimum pipeline depth under the river surface at the river banks will be 65 feet. The ultimate parent corporation of Borrego is Howard Midstream Energy Partners, LLC (“HEP”). Under E.O. 13337, the Secretary of State is designated and empowered to receive all applications for Presidential Permits for the construction, connection, operation, or maintenance, at the borders of the United States, of facilities for the exportation or importation of liquid petroleum, petroleum products, or other nongaseous fuels to or from a foreign country. The Department of State has the responsibility to determine whether issuance of a new Presidential Permit for construction, connection, operation, and maintenance of the proposed Borrego pipeline border facilities would serve the U.S. national interest. The Department will conduct an environmental review consistent with the National Environmental Policy Act of 1969. The Department will provide more information on the review process in a future Federal Register notice. Borrego's application is available at: http://www.state.gov/e/enr/applicant/applicants/index.htm.

FOR FURTHER INFORMATION CONTACT: Presidential Permit Coordinator, Energy Resources Bureau, (ENR/EGA/PAPD) United States Department of State, 2201 C St. NW., Suite 4422, Washington, DC 20520.

Richard Westerdale,
Director, Policy Analysis and Public Diplomacy, Bureau of Energy Resources, U.S. Department of State.

[FR Doc. 2016-23288 Filed 9-26-16; 8:45 am]

BILLING CODE 4710-AE-P